DEPARTMENT OF ENERGY

Federal Energy Regulatory Commission

[Project No. 11546-022]

City of Thief River Falls Municipal Utilities; Notice of Intent To File License Application, Filing of Pre-Application Document, and Approving Use of the Traditional Licensing Process

a. Type of Filing: Notice of Intent to File License Application and Request to Use the Traditional Licensing Process.

b. Project No.: 11546-022.

c. Date Filed: August 31, 2023.

d. Submitted by: City of Thief River Falls Municipal Utilities (Thief River Utilities).

e. Name of Project: Municipal Power Dam Hydroelectric Project.

f. Location: On the Red Lake River in Pennington County, Minnesota.

g. Filed Pursuant to: 18 CFR 5.3 of the Commission's regulations.

h. Potential Applicant Contact: Ronnie Lund, Chief Power Plant Operator, City of Thief River Falls Municipal Utilities, 1711 1st Street West, Thief River Falls, MN 56701; phone: (218) 681-3506; email: rlund@citytrf.net.

i. FERC Contact: David Graefe at (202) 502-6137; or email at David.Graefe@ferc.gov.

j. Thief River Utilities filed its request to use the Traditional Licensing Process on August 31, 2023. Thief River Utilities provided public notice of its request on August 23, 2023. In a letter dated October 10, 2023, the Director of the Division of Hydropower Licensing approved Thief River Utilities' request to use the Traditional Licensing Process.

k. With this notice, we are initiating informal consultation with the U.S. Fish and Wildlife Service under section 7 of the Endangered Species Act and the joint agency regulations thereunder at 50 CFR, part 402. We are also initiating consultation with the Minnesota State Historic Preservation Officer, as required by section 106, National Historical Preservation Act, and the implementing regulations of the Advisory Council on Historic Preservation at 36 CFR 800.2.

l. With this notice, we are designating Thief River Utilities as the Commission's non-Federal representative for carrying out informal consultation, pursuant to section 7 of the Endangered Species Act and section 106 of the National Historic Preservation Act.

m. Thief River Utilities filed a Pre-Application Document (PAD; including a proposed process plan and schedule) with the Commission, pursuant to 18 CFR 5.6 of the Commission's regulations.

n. A copy of the PAD may be viewed and/or printed on the Commission's website (http://www.ferc.gov), using the “eLibrary” link. Enter the docket number, excluding the last three digits in the docket number field to access the document. At this time, the Commission has suspended access to the Commission's Public Reference Room. For assistance, contact FERC at FERCOnlineSupport@ferc.gov or call toll free, (886) 208-3676 or TTY (202) 502-8659.

o. The licensee states its unequivocal intent to submit an application for a subsequent license for Project No. 11546. Pursuant to 18 CFR 16.20 each application for a subsequent license and any competing license applications must be filed with the Commission at least 24 months prior to the expiration of the existing license. All applications for license for this project must be filed by August 31, 2026.

p. Register online at http://www.ferc.gov/docs-filing/esubscription.asp to be notified via email of new filing and issuances related to this or other pending projects. For assistance, contact FERC Online Support.

q. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 10, 2023.
Kimberly D. Bose,
Secretary.

[FR Doc. 2023-22758 Filed 10-13-23; 8:45 am]

BILLING CODE 6717-01-P